DEPARTMENT OF TRANSPORTATION

Office of the Secretary

Notice of Applications for Certificates of Public Convenience and Necessity and Foreign Air Carrier Permits Filed Under Subpart B (Formerly Subpart Q) During the Week Ending April 28, 2006.

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-24629.

Date Filed: April 25, 2006.

Due Date for Answers, Conforming Applications, or Motion to Modify Scope: May 16, 2006.

Description: Application of Yangtze River Express Airlines Co., Ltd. requesting a foreign air carrier permit to operate scheduled cargo only air services between Shanghai, People's Republic of China (PRC) and Los Angeles, CA, United States of America (USA), via Anchorage, AK, USA (technical stop only).

Renee V. Wright,
Program Manager, Docket Operations, Federal Register Liaison.

[FR Doc. E6-7568 Filed 5-17-06; 8:45 am]

BILLING CODE 4910-9X-P